DEPARTMENT OF AGRICULTURE

Natural Resources Conservation Service

[Docket No. NRCS-2015-0001]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a new conservation practice standard in the National Handbook of Conservation Practices. This standard is High Tunnel System (Code 325). NRCS State Conservationists who choose to adopt this practice for use within their States will incorporate it into section IV of their respective electronic Field Office Technical Guide. This practice may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective February 3, 2015.

Comment Date: Submit comments on or before March 5, 2015. Final versions of this new conservation practice standard will be adopted after the close of the 30-day period and after consideration of all comments.

ADDRESSES: Comments should be submitted and identified by Docket Number NRCS-2015-0001, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Wayne Bogovich, National Agricultural Engineer, Conservation Engineering Division, Department of Agriculture, Natural Resources Conservation Service, 1400 Independence Avenue SW., Room 6136 South Building, Washington, DC 20250.

Electronic copies of the proposed new standard is available through http://www.regulations.gov by accessing Docket No. NRCS-2015-0001. Alternatively, a copy can be downloaded or printed from the following Web site: http://go.usa.gov/TXye. Requests for a paper version or inquiries may be directed to Emil Horvath, National Practice Standards Review Coordinator, Natural Resources Conservation Service, Central National Technology Support Center, 501 West Felix Street, Fort Worth, Texas 76115.

SUPPLEMENTARY INFORMATION: To fully understand the new conservation practice standard, individuals are encouraged to acquire the document from one of the means listed. To aid in this understanding, following are some highlights of the proposed new standard: High Tunnel System (Code 325)—This is a new National Conservation Practice Standard with a 5 year lifespan. Prior to this new National Conservation Practice Standard, there existed an Interim Conservation Practice Standard, “Seasonal High Tunnel” (Code 798), that has been utilized extensively by a number of States since 2010. Because the Interim Conservation Practice Standard has been used so widely (10 thousand structures with financial assistance amounting to about $20 million), States recommended conversion of this interim standard to a new National Conservation Practice Standard. “High Tunnel System” (Code 325) applies to “kits” that can be purchased from a number of suppliers. Improving plant health and vigor has been identified as the purpose of this standard. The conservation practice describes “an enclosed polyethylene, plastic, or fabric covered structure used to cover and protect crops from sun, wind, excessive rainfall, or cold to extend the growing season in an environmentally safe manner.”

Signed this 26th day of January, 2015, in Washington, DC.
Jason A. Weller,
Chief, Natural Resources Conservation Service.

[FR Doc. 2015-02084 Filed 2-2-15; 8:45 am]

BILLING CODE 3410-16-P